DEPARTMENT OF COMMERCE

National Oceanic and Atmospheric Administration

Agency Information Collection Activities; Submission to the Office of Management and Budget (OMB) for Review and Approval; Comment Request; Assessing Public Preferences and Values To Support Coastal and Marine Management

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on August 25, 2023 during a 60-day comment period and on February 2nd, 2024 during a 30-day comment period. This notice allows for an additional 30 days for public comments.

Agency: National Oceanic & Atmospheric Administration (NOAA), Commerce.

Title: Assessing Public Preferences and Values to Support Coastal and Marine Management.

OMB Control Number: 0648-0829.

Form Number(s): None.

Type of Request: Revision and extension to an approved collection of information.

Number of Respondents: Questionnaire: 2,534.

Average Hours per Response: Questionnaire: 10 minutes.

Total Annual Burden Hours: 422.3.

Needs and Uses: This request is for a revision and extension to an approved collection of information to directly support decision-makers with the National Estuarine Research Reserve System (NERRS). The proposed data collection involves surveying randomly selected residents (aged 18 years and older) from households in counties surrounding the National Estuarine Research Reserve (NERR). The purpose of this information collection is to obtain data on the opinions, values, attitudes, and behaviors of visitors to National Ocean Service (NOS) special places, as well as residents from surrounding areas. There are two surveys within this request: the “York River Outdoor Recreation Survey” and the “Public Perceptions of Prescribed Fires.” The first survey targets communities (45 counties and independent cities) within a one-hour drive of the York River in Virginia, which is where the Chesapeake Bay- Virginia NERR (CBNERR-VA) is located. The second survey targets communities in Alabama and Mississippi's three coastal counties, which is where the Grand Bay NERR (GNDNERR) and Weeks Bay NERR (WBNERR) are located.

The initial surveys will be conducted for the Chesapeake Bay NERR in Virginia (CBNERR-VA), Weeks Bay NERR (WBNERR), and Grand Bay NERR (GNDNERR), and the survey will be repeated regularly in other NERRs based on information needs and budget.

The NERRS is a Federal-State partnership program for the stewardship, education, and research of unique estuarine sites. This data collection supports the NERRS' vision of establishing healthy estuaries and coastal watersheds where human and ecological communities thrive. The NERRS has identified five priority research areas, including a focus on social science and economic processes within each NERR site. However, limited data exist characterizing stakeholder activities, attitudes, knowledge, and preferences, including their spatial aspects. Gathering such data is essential for effective management of stakeholder groups, regulatory proposals, and resource management decisions.

Designated in 1986, WBNERR is located along the eastern shore of Mobile Bay in Baldwin County, Alabama. CBNERR-VA, designated in 1991, comprises four reserve sites within the York River in the southern Chesapeake Bay subregion. Finally, GNDNERR was established in 1999 and is located in the Grand Bay Savannah Complex along the Mississippi-Alabama state line in Jackson County, Mississippi. All three NERRs prioritize public access and responsible use to protect ecosystems, identifying public sites, minimizing conflicts, and evaluating visitor use. Therefore, information is needed on who uses these NERR sites, their motivations, management preferences, and why some do not visit. This data supports conservation and management goals, strengthens decision-making, increases capacity, and extends education and outreach. It is also required by NOAA to meet objectives related to ocean and coastal planning and management. The data benefits State and local officials as well.

NOAA's mission is to provide science, service and stewardship for, among other activities, management of the nation's oceans and coasts. NOAA supports “comprehensive ocean and coastal planning and management” in order to facilitate use of oceans and coasts, while also ensuring “continued access to coastal areas, sustained ecosystems, maintained cultural heritage, and limited cumulative impacts.” NOAA is subject to and supports mandates of the Coastal Zone Management Act (CZMA) (16 U.S.C. 1452 (303)(2)(D)), which encourages the wise use of coastal resources, including energy activity. The CZMA also encourages the inclusion and participation of the public in carrying out the tenets of the act (16 U.S.C. 1452 (303)(4)). The National Environmental Policy Act (NEPA) (42 U.S.C. 4332(2)(A)) mandates Federal agencies to use social science data to assess the impacts of Federal actions on the human environment. Consequently, up-to-date sociological data is needed to support Federal agency obligations under each of these acts.

Affected Public: Individuals or households.

Frequency: This is a one-time information collection for this region, although the collection may be deployed to other regions in the future.

Respondent's Obligation: Voluntary.

Legal Authority: Coastal Zone Management Act (CZMA) (16 U.S.C. 1452 (303)(2)(D)), National Environmental Policy Act (NEPA) (42 U.S.C. 4332(2)(A)).

This information collection request may be viewed at www.reginfo.gov. Follow the instructions to view the Department of Commerce collections currently under review by OMB.

Written comments and recommendations for the proposed information collection should be submitted within 30 days of the publication of this notice on the following website. Find this particular information collection by selecting “Currently under 30-day Review—Open for Public Comments” or by using the search function and entering either the title of the collection or the OMB Control Number 0648-0829.

Sheleen Dumas,
Departmental PRA Compliance Officer, Office of the Undersecretary for Economic Affairs, Commerce Department.

[FR Doc. 2025-10297 Filed 6-5-25; 8:45 am]

BILLING CODE 3510-08-P